COMMITTEE FOR PURCHASE FROM PEOPLE WHO ARE BLIND OR SEVERELY DISABLED

Notice of Availability of Draft of Information Quality Guidelines

AGENCY: Committee for Purchase from People Who Are Blind or Severely Disabled.

ACTION: Notice.

SUMMARY: The Committee has made available a draft of its Information Quality Guidelines pursuant to the requirements of the Guidelines for Ensuring and Maximizing the Quality, Objectivity, Utility and Integrity of Information Disseminated by Federal Agencies issued by the Office of Management and Budget (OMB). The Committee invites comments on these draft Information Quality Guidelines. The draft guidelines are published on the Committee's Web site http://www.jwod.gov.

DATES: Comments must be received on or before March 17, 2003.

ADDRESSES: Comments may be mailed to the Committee for Purchase from People Who Are Blind or Severely Disabled, 1421 Jefferson Davis Highway, Suite 10800, Arlington, VA 22202. Comments can also be e-mailed to info@jwod.gov.

FOR FURTHER INFORMATION CONTACT: Sheryl D. Kennerly, Director, Information Management, Committee for Purchase from People Who Are Blind or Severely Disabled, 1421 Jefferson Davis Highway, Suite 10800, Arlington, VA 22202, (703) 603-7740.

SUPPLEMENTARY INFORMATION: Section 515 of the Treasury and General Government Appropriations Act for FY 2001 (Pub. L. 106-554) requires each Federal agency to publish guidelines for ensuring and maximizing the quality, objectivity, utility, and integrity of the information its disseminates. Agency guidelines must be based on government-wide guidelines issued by the Office of Management and Budget (OMB). In compliance with this statutory requirement and OMB instructions, the Committee has posted its Information Quality Guidelines on its Web site (http://www.jwod.gov).

The Guidelines describe the Committee's procedures for ensuring the quality of information that it disseminates and the procedures by which an affected person may obtain correction of information disseminated by the Committee that does not comply with the Guidelines. Persons who cannot access the Guidelines through the Internet may request a paper or electronic copy by contacting the Committee.

Sheryl D. Kennerly,
Director, Information Management.

[FR Doc. 03-3733 Filed 2-13-03; 8:45 am]

BILLING CODE 6353-01-P